DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Dealer and Interview Family of Forms.

OMB Control Number: 0648-0013.

Form Number(s): 88-12, 8812-B, 88-30.

Type of Request: Regular submission (revision and extension of a current information collection).

Number of Respondents: 5,499.

Average Hours per Response: Interviews and dealer reporting, 10 minutes (except for non-South Carolina coastal fisheries dealer reporting, 1 minute); wreckfish dealer no-purchase reporting, 3 minutes.

Burden Hours: 1,542.

Needs and Uses: This request is for revision and extension of a current information collection.

Fishery quotas are established for many species in the fishery management plans developed by both the Gulf of Mexico Reef Fish Fishery Management Council and the South Atlantic Fishery Management Council. The Southeast Fisheries Science Center has been delegated the responsibility to monitor these quotas. To do so in a timely manner, seafood dealers that handle these species are required to report the purchases (landings) of these species.

The frequency of these reporting requirements varies depending on the magnitude of the quota (e.g., lower quota usually require more frequent reporting) and the intensity of fishing effort. The most common reporting frequency is twice a month; however, some fishery quotas, (e.g., the mackerel gill net) necessitate weekly or by the trip reporting.

In addition, information collection included in this family of forms includes interview with fishermen to gather information on the fishing effort, location and type of gear used on individual trips. This data collection is conducted for a subsample of the fishing trips and vessel/trips in selected commercial fisheries in the Southeast region. Fishing trips and individuals are selected at random to provide a viable statistical sample. These data are used for scientific analyses that support critical conservation and management decisions made by national and international fishery management organizations.

Revision: Submission of trip tickets is now all electronic, resulting in decreased hours and costs.

Affected Public: Business or other for-profit organizations.

Frequency: Annually, bimonthly, monthly, weekly.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: June 20, 2013.
Gwellnar Banks,
Management Analyst, Office of the Chief Information Officer.

[FR Doc. 2013-15150 Filed 6-24-13; 8:45 am]

BILLING CODE 3510-22-P